SECURITIES AND EXCHANGE COMMISSION

[File No. 500-1]

In the Matter of Cubed, Inc.; Order of Suspension of Trading

July 17, 2014.

It appears to the Securities and Exchange Commission (“Commission”) that there is a lack of current and accurate information concerning the securities of Cubed, Inc. (“Cubed”), particularly with respect to the company's current financial condition. Cubed is a Nevada corporation with its principal place of business located in Las Vegas, Nevada. Its stock is quoted on OTC Link, operated by OTC Markets Group Inc., under the ticker: CRPT. The Commission is of the opinion that the public interest and the protection of investors require a suspension of trading in the securities of Cubed.

Therefore, it is ordered, pursuant to Section 12(k) of the Securities Exchange Act of 1934, that trading in the securities of the above-listed company is suspended for the period from 9:30 a.m. EDT on July 17, 2014, through 11:59 p.m. EDT on July 30, 2014.

By the Commission.
Jill M. Peterson,
Assistant Secretary.

[FR Doc. 2014-17186 Filed 7-17-14; 11:15 am]

BILLING CODE 8011-01-P